NUCLEAR REGULATORY COMMISSION

[Docket No. 50-302; NRC-2011-0248]

Florida Power Corporation; Notice of Withdrawal of Application for Amendment to Facility Operating License

The U.S. Nuclear Regulatory Commission (NRC or the Commission) has granted the request of Florida Power Corporation (the licensee) to withdraw its March 24, 2011, application for proposed amendment to Facility Operating License No. DPR-72 for the Crystal River Unit 3 Nuclear Generating Plant located in Citrus County, Florida.

The proposed amendment would have modified the facility technical specifications to adopt Technical Specification Task Force (TSTF), Improved Standard Technical Specifications Change Traveler, TSTF-248, Revision 0, “Revise Shutdown Margin Definition for Stuck Rod Exception.” The proposed amendment would have revised the definition of shutdown margin to include a provision allowing an exception to the highest reactivity worth stuck control rod penalty if there are two independent means of confirming that all control rods are fully inserted in the reactor core.

The Commission had previously issued a Notice of Consideration of Issuance of Amendment published in the Federal Register on June 28, 2011 (76 FR 37848). However, by letter dated September 7, 2011, the licensee withdrew the proposed change.

For further details with respect to this action, see the application for amendment dated March 24, 2011, and the licensee's letter dated September 7, 2011, which withdrew the application for license amendment. Documents may be examined, and/or copied for a fee, at the NRC's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209 or 301-415-4737, or by e-mail to pdr.resource@nrc.gov.

Dated at Rockville, Maryland, this 17th day of October 2011.
For the Nuclear Regulatory Commission.
Farideh E. Saba,
Senior Project Manager, Plant Licensing Branch II-2, Division of Operating Reactor Licensing, Office of Nuclear Reactor Regulation.

[FR Doc. 2011-27689 Filed 10-25-11; 8:45 am]

BILLING CODE 7590-01-P